GENERAL SERVICES ADMINISTRATION

Performance Review Boards for Small Client Agencies Services by the General Services Administration, Names of Members

Sec. 4314(c)(1) through (5) of Title 5 U.S.C., requires each agency to establish, in accordance with regulations prescribed by The Office of Personnel Management, one or more Performance Review Boards. The board shall review and evaluate the initial appraisal by the supervisor of a senior executive's performance, along with any recommendations to the appointing authority relative to the performance of the senior executive. The Performance Review Board also shall make recommendations as to whether the career executive should be recertified, conditionally recertified, or not recertified.

As provided under Section 601 of the Economy Act of 1932, amended 31 U.S.C. 1525, the General Services Administration through its Agency Liaison Division, provides various personnel management services to a number of diverse Presidential commission, committees, boards and other agencies through reimbursable administrative support agreements. This notice is processed on behalf of the client agencies, and it supersedes all other notices in the Federal Register on this subject. Because of their small size, a Performance Review Board register has been established in which SES members from the client agencies participate. The Board is composed of SES members from various agencies. From this register of names, the head of each client agency will appoint executives to a specific board to serve a particular client agency.

The members who names appear on the SES Performance Review Board standing roster to serve client agencies are:

Barry M. Goldwater Scholarship and Excellence In Education Foundation

Gerald J. Smith, Executive Secretary

Committee for Purchase From People Who Are Blind or Severely Disabled

Leon A. Wilson, Jr., Executive Director

Federal Retirement Thrift Investment Board

David L. Black, Director of Accounting

Stratos D. Valakis, Director of Contracts and Administration

Lawrence E. Stiffler, Director of Automated Systems

Veda R. Charrow, Director of Communications

Thomas J. Trabucco, Director of External Affairs

James B. Petrick, Director of Benefits and Investments

Elizabeth S. Woodruff, General Counsel

Defense Nuclear Facilities Safety Board

Kenneth M. Pusateri, General Manager

Joseph R. Neubeiser, Deputy General Manager

Richard A. Azaro, General Counsel

Harry S. Truman Scholarship Foundation

Louis H. Blair, Executive Secretary

Japan-United States Friendship Commission

Eric J. Gangloff, Executive Director

Office of Navajo and Hopi Indian Relocation

Christopher J. Bavasi, Executive Director

Michael J. McAlister, Deputy Executive Director

Arctic Research Commission

Garrett W. Brass, Executive Director

National Mediation Board

Ronald M. Etters, General Counsel

Stephen E. Crable, Chief of Staff

Dated: September 21, 2000.
Melynda Clarke,
Director, Agency Liaison Division.

[FR Doc. 00-24823 Filed 9-26-00; 8:45 am]

BILLING CODE 6820-61-M